INTERNATIONAL TRADE COMMISSION

[Investigation Nos. 731-TA-1675-1678 (Final)]

Dioctyl Terephthalate (DOTP) From Malaysia, Poland, Taiwan, and Turkey; Cancellation of Hearing for Antidumping Duty Investigations

AGENCY: United States International Trade Commission.

ACTION: Notice.

DATES: March 21, 2025.

FOR FURTHER INFORMATION CONTACT: Jesse Sanchez ((202) 205-2402), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On November 5, 2024, the Commission established a schedule for the final phase of the antidumping duty investigations (89 FR 91423, November 19, 2024). On March 19, 2025, counsel for Eastman Chemical Company (“Eastman”) and counsel for BASF Corporation (“BASF”) filed requests to appear at the hearing. No other parties submitted a request to appear at the hearing. On March 20, 2025, counsel for Eastman filed a request that the Commission cancel the scheduled hearing for these investigations and withdrew its request to appear at the hearing. On March 20, 2025, counsel for BASF withdrew its request to appear at the hearing. Counsel indicated a willingness to respond to any Commission questions in lieu of an actual hearing. Consequently, the public hearing in connection with these investigations, scheduled to begin at 9:30 a.m. on Tuesday, March 25, 2025, is cancelled. Parties to these investigations should respond to any written questions posed by the Commission in their posthearing briefs, which are due to be filed on April 1, 2025.

For further information concerning these investigations see the Commission's notice cited above and the Commission's Rules of Practice and Procedure, part 201, subparts A and B (19 CFR part 201), and part 207, subparts A, D, E, and F (19 CFR part 207).

Authority: These investigations are being conducted under authority of title VII of the Tariff Act of 1930; this notice is published pursuant to § 207.21 of the Commission's rules.

By order of the Commission.
Issued: March 24, 2025.
Lisa Barton,
Secretary to the Commission.

[FR Doc. 2025-05271 Filed 3-26-25; 8:45 am]

BILLING CODE 7020-02-P